DEPARTMENT OF COMMERCE

Foreign-Trade Zones Board

[B-39-2017]

Foreign-Trade Zone (FTZ) 214—Lenoir County, North Carolina; Authorization of Export-Only Production Activity; Nutkao USA, Inc.; (Hazelnut Cocoa Spread); Battleboro, North Carolina

On May 24, 2017, Nutkao USA, Inc. submitted a notification of proposed export-only production activity to the FTZ Board for its facility within FTZ 214 in Battleboro, North Carolina.

The notification was processed in accordance with the regulations of the FTZ Board (15 CFR part 400), including notice in the Federal Register inviting public comment (82 FR 26663-26664, June 8, 2017). On September 21, 2017, the applicant was notified of the FTZ Board's decision that no further review of the activity is warranted at this time. The export-only production activity described in the notification was authorized, subject to the FTZ Act and the FTZ Board's regulations, including Section 400.14.

Dated: September 22, 2017.
Andrew McGilvray,
Executive Secretary.

[FR Doc. 2017-20815 Filed 9-27-17; 8:45 am]

BILLING CODE 3510-DS-P